DEPARTMENT OF HEALTH AND HUMAN SERVICES

National Institutes of Health

Notice of Establishment

Pursuant to the Federal Advisory Committee Act, as amended (5 U.S.C. Appendix 2), the Director, National Institutes of Health (NIH), announces the establishment of the Board of Scientific Counselors, National Center for Complementary and Alternative Medicine (Committee).

This Committee shall advise the Director, NIH; the Deputy director for Intramural Research, NIH; the Director, National Center for Complementary and Alternative Medicine (NCCAM); and the Scientific Director, NCCAM, on the intramural research programs through periodic visits to the laboratories for assessment of the research in progress, the proposed research, and evaluation of the productivity and performance of tenured, tenure track and staff scientists and physicians.

The Committee will consist of eight members, including the Chair, appointed by the Director, NIH, from authorities knowledgeable about conventional and complementary and alternative medicine research in the fields of interest to NCCAM.

Duration of this committee is continuing unless formally determined by the Director, NIH, that termination would be in the best public interest.

Dated: August 17, 2005.
Elias A. Zerhouni,
Director, National Institutes of Health.

[FR Doc. 05-17252 Filed 8-30-05; 8:45 am]

BILLING CODE 4140-01-M